DEPARTMENT OF LABOR

Employment and Training Administration

[NAFTA-5829]

Chambersburg Engineering Co., Chambersburg, Pennsylvania; Notice of Termination of Investigation

Pursuant to Title V of the North American Free Trade Agreement Implementation Act (Public Law 103-182) concerning transitional adjustment assistance, hereinafter called NAFTA-TAA and in accordance with section 250(a), Subchapter 2, Title II, of the Trade Act of 1974, as amended (19 U.S.C. 2331), an investigation was initiated on February 4, 2002, in response to a petition filed by a company official on behalf of workers at Chambersburg Engineering Co., Chambersburg, Pennsylvania.

The petitioner has requested that the petition be withdrawn. Consequently, further investigation in this case would serve no purpose, and the investigation has been terminated.

Signed in Washington, DC this 22nd day of February, 2002.
Linda G. Poole,
Certifying Officer, Division of Trade Adjustment Assistance.

[FR Doc. 02-6671 Filed 3-19-02; 8:45 am]

BILLING CODE 4510-30-M